DEPARTMENT OF HOMELAND SECURITY

Coast Guard

33 CFR Part 117

[Docket No. USCG-2011-0696]

Drawbridge Operation Regulation; Grassy Sound Channel, Middle Township, NJ

AGENCY: Coast Guard, DHS.

ACTION: Notice of temporary deviation from regulations.

SUMMARY: The Commander, Fifth Coast Guard District, has issued a temporary deviation from the regulation governing the operation of the Grassy Sound/Ocean Drive Bascule Bridge across the Grassy Sound Channel, mile 1.0, at Middle Township, NJ. The deviation is necessary to accommodate racers in “The Wild Half” half marathon. This deviation allows the bridge to remain in the closed position to ensure safe passage for the half marathon racers.

DATES: This deviation is effective from 7:45 a.m. through 11 a.m. on August 27, 2011.

ADDRESSES: Documents mentioned in this preamble as being available in the docket are part of docket USCG-2011-0696 and are available online by going to http://www.regulations.gov, inserting USCG-2011-0696 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: Cape May County Department of Public Works has requested a temporary deviation from the current operating regulations of the Grassy Sound/Ocean Drive Bascule Bridge across the Grassy Sound Channel, mile 1.0, at Middle Township, NJ. The route of “The Wild Half” half marathon crosses the bridge twice and the requested deviation is to accommodate the race participants. To facilitate this event, the draw of the bridge will be maintained in the closed-to-navigation position from 7:45 a.m. until 11 a.m. on Sunday August 27, 2011.

The vertical clearance for this bridge in the closed position is 15 feet at Mean High Water and unlimited in the open position. The operating regulations are set forth in 33 CFR 117.721 which states that during this time of year the bridge shall open on signal from 6 a.m. to 8 p.m.

Vessels that can pass through the bridge in the closed position may do so at any time. The Coast Guard will inform the waterway users of the closure through our Local and Broadcast Notices to Mariners to minimize any impact caused by the temporary deviation. The bridge will be able to open for emergencies. In the past 6 years there have been minimal openings for this bridge during the morning hours in August. Most vessel traffic consists of a few tugs and tows and recreational boaters. Vessels can use the Stone Harbor Bridge across the Great Channel as an alternate route to Hereford Inlet and the Atlantic Ocean.

In accordance with 33 CFR 117.35(e), the drawbridge must return to its regular operating schedule immediately at the end of the designated time period. This deviation from the operating regulations is authorized under 33 CFR 117.35.

Dated: August 2, 2011.
Waverly W. Gregory, Jr.,
Bridge Program Manager, By direction of the Commander, Fifth Coast Guard District.

[FR Doc. 2011-20374 Filed 8-10-11; 8:45 am]

BILLING CODE 9110-04-P